DEPARTMENT OF COMMERCE

Bureau of the Census

[Docket Number 010209034-2187-05]

Urban Area Criteria for Census 2000; Correction

AGENCY: Bureau of the Census, Department of Commerce.

ACTION: Notice.

SUMMARY: On March 15, 2002 (67 FR 11663), the Bureau of the Census (Census Bureau) published a Federal Register Notice of Final Program Criteria announcing its criteria for defining urban and rural territory based on the results of Census 2000. The Census Bureau is correcting the final criteria as they apply to Guam.

EFFECTIVE DATE: August 23, 2002.

FOR FURTHER INFORMATION CONTACT: Robert Marx, Chief, Geography Division, U.S. Census Bureau, 4700 Silver Hill Road, Stop 7400, Washington, DC 20233-7400; telephone (301) 457-2131; e-mail at: ua@geo.census.gov.

SUPPLEMENTARY INFORMATION: On March 15, 2002 (67 FR 11663), the Census Bureau published a Federal Register Notice of Final Program Criteria announcing its criteria for defining urban and rural territory based on the results of Census 2000. The Census Bureau is correcting the final criteria as they apply to Guam.

The Census Bureau is providing the following correction to the original Notice.

Page 11667, Column 1, first paragraph under the “Urban Area Criteria for Census 2000” heading: “The following criteria apply to the 50 states, the District of Columbia, Puerto Rico, American Samoa, Guam, the Northern Mariana Islands, and the Virgin Islands of the United States” is corrected to read, “The following criteria apply to the 50 states, the District of Columbia, Puerto Rico, American Samoa, the Northern Mariana Islands, and the Virgin Islands of the United States. The criteria also can be applied to Guam, at the request of the Governor. Lacking such a request, all urban population in Guam, regardless of cluster size, will be designated as in “urban clusters.”

This correction is provided in accordance with an agreement between the Census Bureau and the government of Guam. All urban areas defined within Guam based on the results of Census 2000 are designated as urban clusters regardless of their total population.

Executive Order 12866

This Notice has been determined to be not significant for purposes of Executive Order 12866.

Regulatory Flexibility Act

Even though we gave the public prior notice and an opportunity for public comment, we were not required to do so by Title 5, United States Code (U.S.C.), Section 553, or any other law. Therefore, a Regulatory Flexibility Analysis is not required and has not been prepared (5 U.S.C. 603[a]).

Paperwork Reduction Act

This program Notice does not represent a collection of information subject to the requirements of the Paperwork Reduction Act, Title 44, U.S.C., Chapter 35.

Dated: August 20, 2002.
Charles Louis Kincannon,
Director, Bureau of the Census.

[FR Doc. 02-21546 Filed 8-22-02; 8:45 am]

BILLING CODE 3510-07-P